DEPARTMENT OF ENERGY

Federal Energy Regulatory Commission

[Docket No. CP09-432-000]

Tricor Ten Section Hub LLC; Notice of Availability of the Environmental Assessment for the Proposed Ten Section Gas Storage Project

November 29, 2010.

The staff of the Federal Energy Regulatory Commission (FERC or Commission) has prepared an environmental assessment (EA) for the Ten Section Gas Storage Project, in Kern County, California, proposed by Tricor Ten Section Hub LLC (Tricor) in the above referenced docket. Tricor requests authorization to utilize the depleted underground capacity available within Zone 1 of the Upper Stevens Sands of the existing Ten Section oil and gas field, about 12 miles southwest of Bakersfield, to store about 22.4 billion cubic feet of natural gas.

The EA assesses the potential environmental effects of the construction and operation of the Ten Section Gas Storage Project in accordance with the requirements of the National Environmental Policy Act (NEPA). The FERC staff concludes that approval of the proposed project, with appropriate mitigating measures, would not constitute a major Federal action significantly affecting the quality of the human environment.

The California Department of Conservation Division of Oil, Gas, and Geothermal Resources (DOGGR) participated as a cooperating agency in the preparation of the EA. Cooperating agencies have jurisdiction by law or special expertise with respect to resources potentially affected by the proposal and participate in the NEPA analysis. DOGGR has the authority to review Notices of Intent to drill or rework wells and injection project applications, under California state laws and regulations. DOGGR may adopt the EA for purposes of its environmental review of the Project.

The Ten Section Storage Project would consist of the following facilities that would fall under the authority or jurisdiction of the FERC:

• 26 new gas injection/withdrawal wells drilled from 5 well pads at the field;

• 2 new (low pressure and high pressure) 20-inch-diameter field pipelines connecting the gas injection/withdrawal wells to the compressor station;

• 5 existing water disposal wells at the field used for the same purpose;

• new 4-inch-diameter water disposal pipeline from the proposed Tricor compressor station to the existing water disposal wells;

• 2 existing water supply wells and new associated pipelines to provide water for field operations and hydrostatic testing;

• 9 existing oil production wells in the field converted into observation wells;

• new 42,000-horsepower (hp) electric-driven field compressor station;

• new 36-inch-diameter bi-directional header pipeline, extending about 20.5 miles, between Tricor's compressor station and the existing Kern-Mojave pipeline; and

• new metering and regulating station at the interconnection between the Tricor header pipeline with the Kern-Mojave pipeline.

In addition, as part of this Project, the following facilities would be constructed and operated which are not regulated by the FERC (non-jurisdictional facilities):

• New electric substation, to be designed, built, owned, and operated by Pacific Gas and Electric company (PG&E) about 1.5 miles southwest of the storage field;

• new 1.6-miles-long, 230-kilovolt transmission line, to be designed, built, owned, and operated by PG&E, connecting the new electric substation with Tricor's compressor station;

• new 30,000 barrel oil tank within the proposed compressor station tract, and

• new 10-inch-diameter, 0.3-mile-long oil pipeline between the proposed Tricor compressor station and the existing facilities of Kern Oil.

The EA has been placed in the public files of the FERC and is available for public viewing on the FERC's Web site at http://www.ferc.gov using the eLibrary link. A limited number of copies of the EA are available for distribution and public inspection at: Federal Energy Regulatory Commission, Public Reference Room, 888 First Street, NE., Room 2A, Washington, DC 20426, (202) 502-8371.

Copies of the EA have been mailed to Federal, State, and local government representatives and agencies; elected officials; interested Native American tribes; potentially affected landowners; local libraries; other interested individuals; and parties to this proceeding.

Any person wishing to comment on the EA may do so. Your comments should focus on the potential environmental effects, reasonable alternatives, and measures to avoid or lessen environmental impacts. The more specific your comments, the more useful they will be. To ensure that your comments are properly recorded and considered prior to a Commission decision on the proposal, it is important that the FERC receives your comments in Washington, DC on or before December 31, 2010.

For your convenience, there are three methods you can use to submit your comments to the Commission. In all instances, please reference the project docket number (CP09-432-000) with your submission. The Commission encourages electronic filing of comments and has dedicated eFiling expert staff available to assist you at (202) 502-8258 or efiling@ferc.gov.

(1) You may file your comments electronically by using the eComment feature, which is located on the Commission's Web site at http://www.ferc.gov under the link to Documents and Filings. An eComment is an easy method for interested persons to submit brief, text-only comments on a project;

(2) You may file your comments electronically by using the eFiling feature, which is located on the Commission's Web site at http://www.ferc.gov under the link to Documents and Filings. With eFiling you can provide comments in a variety of formats by attaching them as a file with your submission. New eFiling users must first create an account by clicking on “eRegister.” You will be asked to select the type of filing you are making. A comment on a particular project is considered a “Comment on a Filing”; or

(3) You may file a paper copy of your comments at the following address: Kimberly D. Bose, Secretary, Federal Energy Regulatory Commission, 888 First Street, NE., Room 1A, Washington, DC 20426.

Although your comments will be considered by the Commission, simply filing comments will not serve to make the commenter a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at (866) 208-FERC or on the FERC Web site (http://www.ferc.gov) using the eLibrary link. Click on the eLibrary link, click on “General Search” and enter the docket number excluding the last three digits in the Docket Number field (i.e., CP09-432). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to http://www.ferc.gov/esubscribenow.htm.

Kimberly D. Bose,
Secretary.

[FR Doc. 2010-30594 Filed 12-6-10; 8:45 am]

BILLING CODE 6717-01-P